Title 3—

The President

Proclamation 7733 of November 10, 2003

Veterans Day, 2003

By the President of the United States of America

A Proclamation

The willingness of America's veterans to sacrifice for our country has earned them our lasting gratitude. On this, our Nation's 50th annual Veterans Day observance, we celebrate and honor the patriots who have fought to protect the democratic ideals that are the foundation of our country.

When the armistice ending World War I was signed on November 11, 1918, more than 4.7 million Americans put down their arms and turned to the work of strengthening our Nation. The end of that first global conflict was initially commemorated as Armistice Day. In 1954, the Congress renamed the day as Veterans Day to recognize all those who have served in our Armed Forces.

Throughout our history, loyal citizens from every corner of America have willingly assumed the duty of military life. And time after time, in conflicts across the globe, they have proven that democracy is mightier than tyranny. From World War I and World War II, to the conflicts in Korea, Vietnam, and the Persian Gulf, to the recent battles in the war on terror, our military has built a great tradition of courageous and faithful service. Our veterans have helped bring freedom to countries around the world. Free nations and peoples liberated by American troops are grateful for the long, distinguished line of American veterans who have come to their aid.

Today, our veterans inspire new generations of Americans as we work to defeat terrorism and advance peace. In respect for and recognition of the contributions our service men and women have made to the cause of peace and freedom around the world, the Congress has provided (5 U.S.C. 6103(a)) that November 11 of each year shall be set aside as a legal public holiday to honor veterans.

NOW, THEREFORE, I, GEORGE W. BUSH, President of the United States of America, do hereby proclaim November 11, 2003, as Veterans Day and urge all Americans to observe November 9 through November 15, 2003, as National Veterans Awareness Week. I encourage all Americans to recognize the valor and sacrifice of our veterans through appropriate ceremonies and prayers. I call upon Federal, State, and local officials to display the flag of the United States and to participate in patriotic activities in their communities. I invite civic and fraternal organizations, places of worship, schools, businesses, unions, and the media to support this national observance with suitable commemorative expressions and programs.

IN WITNESS WHEREOF, I have hereunto set my hand this tenth day of November, in the year of our Lord two thousand three, and of the Independence of the United States of America the two hundred and twenty-eighth.

B

[FR Doc. 03-28683

Filed 11-13-03; 8:45 am]

Billing code 3195-01-P